DEPARTMENT OF JUSTICE

Notice of Lodging of Proposed Consent Decree Under the Comprehensive Environmental Response, Compensation, and Liability Act

On September 9, 2016, the Department of Justice lodged a proposed Consent Decree with the United States District Court for the Northern District of Ohio in the lawsuit entitled United States and State of Ohio v. Rutgers Organics Corporation, Civil Action No. 4:16-cv-02254.

The proposed Consent Decree resolves claims of Plaintiff, the United States of America, and co-Plaintiff, the State of Ohio, against Defendant, Rutgers Organics Corporation (Rutgers), under the Comprehensive Environmental Response, Compensation, and Liability Act and the Federal Water Pollution Control Act, in a Complaint filed simultaneously with the lodging of the proposed Consent Decree. Under the proposed Decree, Rutgers agrees to complete the cleanup of the Nease Chemical Superfund Site (Site) near Salem, Ohio, to restore injured natural resources at the Site and nearby areas, and to reimburse federal and state agencies their past response and assessment costs.

The publication of this notice opens a period for public comment on the proposed Consent Decree. Comments should be addressed to the Assistant Attorney General, Environment and Natural Resources Division, and should refer to United States and State of Ohio v. Rutgers Organics Corporation, D.J. Ref. No. 90-11-2-608/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.justice.gov/enrd/consent-decrees.

We will provide a paper copy of the proposed Consent Decree upon written request and payment of reproduction costs. Please mail your request and payment to: Consent Decree Library, U.S. DOJ—ENRD, P.O. Box 7611, Washington, DC 20044-7611.

Please enclose a check or money order for $150.50 (25 cents per page reproduction cost) or $31.75 without appendices, payable to the United States Treasury.

Randall M. Stone,
Acting Assistant Section Chief, Environmental Enforcement Section, Environment and Natural Resources Division.

[FR Doc. 2016-22171 Filed 9-14-16; 8:45 am]

BILLING CODE 4410-15-P